COMMODITY FUTURES TRADING COMMISSION

Agency Information Collection Activities Under OMB Review

AGENCY: Commodity Futures Trading Commission.

ACTION: Notice.

SUMMARY: In compliance with the Paperwork Reduction Act, this notice announces that the Information Collection Request (ICR) abstracted below has been forwarded to the Office of Management and Budget (OMB) for review and comment. The ICR describes the nature of the information collection and its expected costs and burden.

DATES: Comments must be submitted on or before October 10, 2014.

ADDRESSES: Comments may be submitted to OMB within 30 days of the notice's publication. Comments, identified by “Whistleblower Provision and Updated Form TCR (OMB Control No. 3038-0082),” should be mailed to the Office of Information and Regulatory Affairs, Office of Management and Budget, Attention: Desk Officer for the Commodity Futures Trading Commission, 725 17th Street NW., Washington, DC 20503.

Comments may be also be submitted, regarding the burden estimated or any other aspect of the information collection, including suggestions for reducing the burden, identified by “Whistleblower Provision and Updated Form TCR (OMB Control No. 3038-0082),” by any of the following methods:

• Agency Web site, via its Comments Online process: http://comments.cftc.gov. Follow the instructions for submitting comments through the Web site.

• Mail: Send to Christopher J. Kirkpatrick, Secretary of the Commission, Commodity Futures Trading Commission, 1155 21st Street NW., Washington, DC 20581.

• Hand Delivery/Courier: Same as Mail, above.

• Federal eRulemaking Portal: http://www.regulations.gov/search/index.jsp. Follow the instructions for submitting comments.

All comments must be submitted in English, or if not, accompanied by an English translation. Comments will be posted as received to http://www.cftc.gov. You should submit only information that you wish to make available publicly. If you wish the Commission to consider information that is exempt from disclosure under the Freedom of Information Act, a petition for confidential treatment of the exempt information may be submitted according to the procedures set forth in section 145.9 of the Commission's regulations.¹

¹ Commission regulations referred to herein are found at 17 CFR Ch. I (2014).

The Commission reserves the right, but shall have no obligation, to review, pre-screen, filter, redact, refuse or remove any or all of your submission from www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: Eduardo Martinez, Attorney, Whistleblower Office, Commodity Futures Trading Commission, (202) 418-5979; email: emartinez@cftc.gov, and refer to OMB Control No. 3038-0082. This contact can also provide a copy of the ICR.

SUPPLEMENTARY INFORMATION:

Title: “Whistleblower Provision and Updated Form TCR,” (OMB Control No. 3038-0082). This is a request for extension of a currently approved information collection.

Abstract: 17 CFR 165.3(a) requires the submission of information to the Commission on a Form TCR. The Form TCR, titled “Tip, Complaint, or Referral,” and the instructions thereto, are designed to capture basic identifying information about a complainant and elicit sufficient information to determine whether the conduct alleged suggests a violation of the Commodity Exchange Act. The Commission has updated the questions asked on the Form TCR to be more specific and detailed.

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on July 7, 2014 (79 FR 38283).

No relevant comments have been received.

Burden Statement: The respondent burden for this collection is estimated to be 0.5 hours per response.

Respondents/Affected Entities: Individuals.

Estimated number of respondents: 250 per year.

Estimated total annual burden on respondents: 125 hours.

Frequency of collection: Once.

Authority: 44 U.S.C. 3501 et seq.

Dated: September 5, 2014.
Christopher J. Kirkpatrick,
Secretary of the Commission.

[FR Doc. 2014-21544 Filed 9-9-14; 8:45 am]

BILLING CODE 6351-01-P